DEPARTMENT OF THE INTERIOR

Central Utah Project Completion Act; Notice of Availability, Draft Environmental Assessment (Draft EA); Realignment of a Portion of the Utah Lake Drainage Basin Water Delivery System

AGENCY: Office of the Assistant Secretary—Water and Science, Interior

ACTION: Notice of Availability, Draft Environmental Assessment (Draft EA)—Realignment of a Portion of the Utah Lake Drainage Basin Water Delivery System.

SUMMARY: Pursuant to section 102(2)(c) of the National Environmental Policy Act of 1969, as amended, the Department of the Interior, the Utah Reclamation Mitigation and Conservation Commission, and the Central Utah Water Conservancy District, are evaluating the impacts of the proposed project.

This project anticipates realignment of a portion of the Utah Lake Drainage Basin Water Delivery System (ULS) through Provo and Orem, Utah. The realignment is being considered to avoid active and historic landslides and to reduce the risk to the pipeline associated with geologic faults.

DATES: Submit written comments on the Draft EA by August 30, 2010.

ADDRESSES: Send written comments on the Draft EA to Ms. Sarah Sutherland, Provo Reach Realignment, 355 W. University Parkway, Orem, UT 84058-7303, by e-mail to sarah@cuwcd.com, or by fax at 801-226-7171.

Copies of the Draft EA are available for inspection at:

• Central Utah Water Conservancy District, 355 West University Parkway, Orem, Utah 84058-7303.

• Department of the Interior, Central Utah Project Completion Act Office, 302 East 1860 South, Provo, Utah 84606.

In addition, the document is available at http://www.cuwcd.com and http://www.cupcao.gov.

FOR FURTHER INFORMATION CONTACT: Additional information may be obtained by contacting Mr. Lee Baxter, Central Utah Project Completion Act Office, 302 East 1860 South, Provo, Utah 84606, by calling (801) 379-1174, or e-mail at lbaxter@usbr.gov.

Before including your name, address, phone number, e-mail address, or other personal identifying information in your comment, you should be aware that your entire comment, including your personal identifying information, may be made publicly available at any time. While you can ask us in your comment to withhold your personal identifying information from public review, we cannot guarantee that we will be able to do so.

Dated: July 22, 2010.
Reed R. Murray,
Program Director, Central Utah Project Completion Act, Department of the Interior.

[FR Doc. 2010-18463 Filed 7-28-10; 8:45 am]

BILLING CODE 4310-RK-P